SECURITIES AND EXCHANGE COMMISSION

[Release No. IC-27023]

Notice of Applications for Deregistration Under Section 8(f) of the Investment Company Act of 1940

July 29, 2005.

The following is a notice of applications for deregistration under section 8(f) of the Investment Company Act of 1940 for the month of July, 2005. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on August 24, 2005, and should be accompanied by proof of service on the applicant, in the form of an affidavit or, for lawyers, a certificate of service. Hearing requests should state the nature of the writer's interest, the reason for the request, and the issues contested. Persons who wish to be notified of a hearing may request notification by writing to the Secretary, SEC, 100 F Street, NE., Washington, DC 20549-0609.

FOR FURTHER INFORMATION CONTACT: Diane L. Titus at (202) 551-6810, SEC, Division of Investment Management, Office of Investment Company Regulation, 100 F Street, NE., Washington, DC 20549-0504.

The BlackRock 2012 Term Trust, BlackRock Strategic High Yield Trust and BlackRock Real Estate Income Trust

[File No. 811-10185, File No. 811-10613 and File No. 811-21240]

Summary: Each applicant, a closed-end investment company, seeks an order declaring that it has ceased to be an investment company. Applicants have never made a public offering of their securities and do not propose to make public offerings or engage in business of any kind.

Filing Dates: The applications were filed on May 11, 2005, and amended on July 20, 2005.

Applicants' Address: 100 Bellevue Parkway, Wilmington, DE 19809.

The BlackRock Investment Quality Term Trust Inc.

[File No. 811-6541]

Summary: Applicant, a closed-end investment company, seeks an order declaring that it has ceased to be an investment company. On June 10, 2005, applicant made a final distribution of $10 per share to all shareholders. Expenses of $18,500 incurred in connection with the liquidation were paid by applicant.

Filing Dates: The application was filed on April 29, 2005, and amended on July 20, 2005.

Applicant's Address: 100 Bellevue Parkway, Wilmington, DE 19809.

BlackRock New York Municipal 2020 Term Trust, BlackRock California Municipal 2020 Term Trust, BlackRock High Yield Opportunity Trust, BlackRock Preferred Opportunity Trust II, BlackRock New Jersey Municipal 2020 Term Trust and BlackRock Rising Rate Trust

[File No. 811-21182, File No. 811-21183, File No. 811-21273, File No. 811-21325, File No. 811-21402 and File No. 811-21618]

Summary: Each applicant, a closed-end investment company, seeks an order declaring that it has ceased to be an investment company. The applicants have never made a public offering of their securities and do not propose to make a public offering or engage in business of any kind.

Filing Dates: The applications were filed on February 3, 2005, and amended on July 20, 2005.

Applicants' Address: 100 Bellevue Parkway, Wilmington, DE 19809.

de Leon Funds Trust

[File No. 811-9345]

Summary: Applicant seeks an order declaring that it has ceased to be an investment company. On November 8, 2000, applicant made a final liquidating distribution to its shareholders, based on net asset value. Expenses of approximately $11,500 incurred in connection with the liquidation were paid by applicant and its investment adviser, de Leon Capital Management, L.L.C.

Filing Dates: The application was filed on May 11, 2005, and amended on July 21, 2005.

Applicant's Address: 116 South Franklin St., P.O. Box 69, Rocky Mount, NC 27802-0069.

Hatteras Income Securities, Inc.

[File No. 811-2352]

Summary: Applicant, a closed-end investment company, seeks an order declaring that it has ceased to be an investment company. On February 28, 2005, applicant made a liquidating distribution to its shareholders, based on net asset value. Expenses of $33,000 incurred in connection with the liquidation were paid by Banc of America Capital Management, LLC, applicant's investment adviser.

Filing Date: The application was filed on June 9, 2005.

Applicant's Address: One Bank of America Plaza, 101 South Tryon St., Charlotte, NC 28255.

CIGNA Investment Securities

[File No. 811-2299]

Summary: Applicant, a closed-end investment company, seeks an order declaring that it has ceased to be an investment company. On April 22, 2005, applicant transferred its assets to BlackRock Core Bond Total Return Portfolio, a series of BlackRock Funds, based on net asset value. Expenses of $424,643 incurred in connection with the reorganization were paid by CIGNA Investment Advisors, Inc. and BlackRock Advisors, Inc., applicant's investment advisers.

Filing Date: The application was filed on June 15, 2005.

Applicant's Address: c/o CIGNA Investment Advisors, Inc., 280 Trumbull St., Hartford, CT 06103.

Advantage Advisers Xanthus II, L.L.C.

[File No. 811-21476]

Summary: Applicant, a closed-end investment company, seeks an order declaring that it has ceased to be an investment company. On March 10, 2005, each applicant made a liquidating distribution to its shareholders, based on net asset value. Applicant incurred expenses of $90,149, in connection with the liquidation.

Filing Date: The application was filed on June 24, 2005.

Applicant's Address: c/o Oppenheimer & Co., Inc., 200 Park Ave., 24th Floor, New York, NY 10116.

USA REIT Fund LLC

[File No. 811-21430]

Summary: Applicant, a closed-end management company, seeks an order declaring that it has ceased to be an investment company. On May 6, 2005, applicant made a final liquidating distribution to its shareholders, based on net asset value. Expenses of $153,596 incurred in connection with the liquidation were paid by applicant.

Filing Dates: The application was filed on May 31, 2005, and amended on July 12, 2005.

Applicant's Address: 425 Walnut St., Cincinnati, OH 45202.

American Income Trust 4 to 10 Year Term, Series 1

[File No. 811-2649]

Summary: Applicant, a unit investment trust, seeks an order declaring that it has ceased to be an investment company. On December 1, 1993, applicant made a liquidating distribution to its shareholders, based on net asset value. Applicant incurred no expenses in connection with the liquidation.

Filing Date: The application was filed on June 30, 2005.

Applicant's Address: c/o B.C. Ziegler and Company, 250 East Wisconsin Ave., Milwaukee, WI 53202.

Great Companies LLC

[File No. 811-21436]

Summary: Applicant seeks an order declaring that it has ceased to be an investment company. Applicant has never made a public offering of its securities and does not propose to make a public offering or engage in business of any kind.

Filing Dates: The application was filed on February 15, 2005, and amended on July 21, 2005.

Applicant's Address: 635 Court St., Suite 100, Clearwater, FL 33756.

Great-West Variable Annuity Account A

[File No. 811-1737]

Summary: Applicant seeks an order declaring that it has ceased to be an investment company. On April 18, 2005, at a meeting of the fewer than one-hundred Account A participants eligible to vote, approval was granted to file an application to terminate the registration of Account A. Applicant states that, over 20 years ago it ceased issuing new contracts funded by Account A, and that, since May 1, 1989, Applicant has not accepted additional contributions under existing contracts. Applicant further states that it is not making and does not presently propose to make a public offering of its securities.

Filing Dates: The application was filed on May 19, 2005; and an amended application was filed on July 25, 2005.

Applicant's Address: 8515 East Orchard Road, Greenwood Village, CO 80111.

Strong Variable Insurance Funds, Inc.

[File No. 811-6553]

Summary: As part of the merger of Strong Funds family into Wells Fargo Advantage Funds family, a series of the Strong Funds, Strong Variable Insurance Funds, Inc., (“Fund or Applicant”) will be merged into two series of the Wells Fargo Variable Trust, Wells Fargo Variable Trust Discovery fund and Wells Fargo Variable Trust Multi Cap fund. Applicant seeks an order declaring that is has ceased to be an investment company. On August 13, 2004, the board of directors of the Strong Variable Insurance Funds, Inc. (the “Fund”) approved the merger of the Fund. On December 10, 2004, shareholders approved the merger. Expenses of approximately $104,205.20 were incurred in connection with the merger of the Strong Funds family into the Wells Fargo Advantage Funds family. All expenses incurred in connection with the merger were paid by Wells Fargo Funds Management, LLC and Strong Financial Corporation. Certain contingent rights, claims and liabilities of each applicant relating to shareholder class actions and derivative actions involving late trading and market timing allegations were transferred to a liquidating trust for the benefit of each applicant's former shareholders. Upon resolution of these claims by the liquidating trust, the trustees will distribute any net proceeds to former shareholders in a manner consistent with applicable law and the fiduciary duties of the trustees. In addition, each applicant's former shareholders may be entitled to certain amounts paid pursuant to regulatory settlements of market timing and related investigations. An independent distribution consultant was retained by Strong Capital Management, Inc., applicants' investment adviser, to oversee the distribution of these amounts to shareholders.

Filing Dates: April 21, 2005 and amended June 21, 2005.

Applicant's Address: 100 Heritage Reserve, Menomnee Falls, Wisconsin 53051.

Strong Opportunity Fund II, Inc.

[File No. 811-6552]

Summary: As part of the merger of the Strong Funds family into the Wells Fargo Advantage Funds family, a series of the Strong Funds, Strong Opportunity Fund II, Inc., (“Fund or Applicant”) will be merged into the Wells Fargo Variable Trust Opportunity Fund. Applicant seeks an order declaring that is has ceased to be an investment company. On August 13, 2004, the board of directors of the Strong Variable Insurance Funds, Inc. approved the merger of the Fund into the Wells Fargo Variable Trust Opportunity Fund. On December 10, 2004, shareholders approved the merger. Expenses of approximately $104,205.20 were incurred in connection with the merger of the Strong Funds family into Wells Fargo Advantage Funds family. All expenses incurred in connection with the merger were paid by Wells Fargo Funds Management, LLC and Strong Financial Corporation. Certain contingent rights, claims and liabilities of each applicant relating to shareholder class actions and derivative actions involving late trading and market timing allegations were transferred to a liquidating trust for the benefit of each applicant's former shareholders. Upon resolution of these claims by the liquidating trust, the trustees will distribute any net proceeds to former shareholders in a manner consistent with applicable law and the fiduciary duties of the trustees. In addition, each applicant's former shareholders may be entitled to certain amounts paid pursuant to regulatory settlements of market timing and related investigations. An independent distribution consultant was retained by Strong Capital Management, Inc. applicants' investment adviser, to oversee the distribution of these amounts to shareholders.

Filing Dates: April 21, 2005, and amended June 21, 2005.

Applicant's Address: 100 Heritage Reserve, Menomnee Falls, Wisconsin 53051.

For the Commission, by the Division of Investment Management, pursuant to delegated authority.
Jill M. Peterson,
Assistant Secretary.

[FR Doc. E5-4196 Filed 8-4-05; 8:45 am]

BILLING CODE 8010-01-P